Title 3—

The President

Memorandum of March 11, 2003

Designation of Officers of the Office of Personnel

Management to Act as Director of the Office of Personnel Management

Memorandum for the Director of the Office of Personnel Management

By the authority vested in me as President under the Constitution and laws of the United States of America and pursuant to the Federal Vacancies Reform Act of 1998, 5 U.S.C. 345 et seq., I hereby order that:

Section 1. Order of Succession.

During any period when the Director of the Office of Personnel Management (Director), or the Deputy Director of the Office of Personnel Management, has died, resigned, or otherwise become unable to perform the functions and duties of the office of Director, the following officers of the Office of Personnel Management, in the order listed, shall perform the functions and duties of the office of Director, if they are eligible to act as Director under the provisions of the Federal Vacancies Reform Act of 1998, until such time as at least one of the officers mentioned above is able to perform the functions and duties of the office of Director:

Chief of Staff;

General Counsel;

Associate Director, Management and Chief Financial Officer;

Associate Director, Human Resources Policy;

Associate Director, Human Resources Products and Services;

Associate Director, Human Capital Leadership and Merit Systems Accountability;

Deputy Associate Director, Center for Investigations Services;

Director, Office of Congressional Relations;

Director, Office of Communications;

Senior Advisor, Homeland Security; and

Senior Advisor, Learning and Knowledge Management.

Sec. 2. Exceptions.

(a)

No individual who is serving in an office listed in section 1 in an acting capacity, by virtue of so serving, shall act as Director pursuant to this memorandum.

(b)

Notwithstanding the provisions of this memorandum, the President retains discretion, to the extent permitted by the Federal Vacancies Reform Act of 1998, 5 U.S.C. 3345-3349d, to depart from this memorandum in designating an acting Director.

Sec. 3. Publication.

You are authorized and directed to publish this memorandum in the Federal Register.

B

THE WHITE HOUSE,

Washington, March 11, 2003.

[FR Doc. 03-6255

Filed 3-12-03; 8:45 am]

Billing code 6325-01-M